DEPARTMENT OF STATE

Bureau of Western Hemisphere Affairs

[Public Notice 5046]

Selection of Date for Purpose of Section 584(c)(i) of H.R. 4818, Consolidated Appropriations Act, 2005

AGENCY: Department of State.

ACTION: Notice.

SUMMARY: This notice establishes April 1, 2005 as the date from which the 120 day period will be calculated, in accordance with Section 584(c)(i) of H.R. 4818, Consolidated Appropriations Act, 2005, which amends Section 527 of the Foreign Relations Authorization Act, Fiscal Years 1994 and 1995.

DATES: This notice is effective on April 1, 2005.

FOR FURTHER INFORMATION CONTACT: U.S. Embassy Managua: Economic Section, Km. 4½ Carretera Sur, Managua, Nicaragua (505) 266-6010; Department of State: Office of Central American Affairs, 2201 C Street, NW., Washington, DC 20520, (202) 736-7660.

SUPPLEMENTARY INFORMATION: Section 584(c)(i) of H.R. 4818, Consolidated Appropriations Act, 2005 amends Section 527 of the Foreign Relations Authorization Act, Fiscal Years 1994 and 1995 in the following manner:

(1) Any action of the types set forth in subparagraphs (A), (B), and (C) of subsection (a)(1) that was taken by the Government of Nicaragua during the period beginning on January 1, 1956, and ending on January 9, 2002, shall not be considered in implementing the prohibition under subsection (a) unless the action has been presented in accordance with the procedure set forth in paragraph (2).

(2) An action shall be deemed presented for purposes of paragraph (1) if it is—

(A) In writing; and

(B) Received by the United States Department of State on or before 120 days after the date specified in paragraph (3) at—

(i) The headquarters of the United States Department of State in Washington, DC; or

(ii) The Embassy of the United States of America to Nicaragua.

(3) The date to which paragraph (2) refers is a date after enactment of this subsection that is specified by the Secretary of State, at the Secretary's discretion, in a notice published in the Federal Register.

The Secretary of State has determined April 1, 2005 as the date described in paragraph (3) of Section 584(c)(i) of H.R. 4818, Consolidated Appropriations Act, 2005.

Dated: March 25, 2005.
David Lindwall,
Director, Office of Central American Affairs, Bureau of Western Hemisphere Affairs, Department of State.

[FR Doc. 05-7238 Filed 4-8-05; 8:45 am]

BILLING CODE 4710-29-P